DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and/or marine mammals.

DATES: Written data, comments or requests must be received by August 6, 2004.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to section 10(c) of the Endangered Species Act of 1973, as amended (16 U.S.C. 1531, et seq.). Written data, comments, or requests for copies of these complete applications should be submitted to the Director (address above).

Applicant: Molecular Anthropology Lab., Arizona State Univ., Tempe, AZ, PRT-090093.

The applicant requests a permit to import opportunistically collected biological samples from wild and captive bred chimpanzees (Pan troglodytes), bonobo (Pan paniscus), gorilla (Gorilla gorilla), and orangutan (Pongo pygmaeus), from various countries, for the purpose of scientific research. This application represents the reissuance of permit 013176 for the same activity, issued to the University of New Mexico, from which the principal investigator has transferred. This notification covers activities to be conducted by the applicant over a five-year period.

Applicant: Brandon E. Diego, Hilo, HI, PRT-089007.

The applicant requests a permit to import the sport-hunted trophy of one male bontebok (Damaliscus pygargus pygargus) culled from a captive herd maintained under the management program of the Republic of South Africa, for the purpose of enhancement of the survival of the species.

Applicant: Michael A. Cooper, Omaha, NE, PRT-089451.

The applicant requests a permit to import the sport-hunted trophy of one male bontebok (Damaliscus pygargus pygargus) culled from a captive herd maintained under the management program of the Republic of South Africa, for the purpose of enhancement of the survival of the species.

Applicant: Paul O. Lanier II, Sandy Hook, VA, PRT-089454.

The applicant requests a permit to import the sport-hunted trophy of one male bontebok (Damaliscus pygargus pygargus) culled from a captive herd maintained under the management program of the Republic of South Africa, for the purpose of enhancement of the survival of the species.

Marine Mammals

The public is invited to comment on the following applications for a permit to conduct certain activities with marine mammals. The applications were submitted to satisfy requirements of the Marine Mammal Protection Act of 1972, as amended (16 U.S.C. 1361 et seq.), and the regulations governing marine mammals (50 CFR part 18). Written data, comments, or requests for copies of the complete applications or requests for a public hearing on these applications should be submitted to the Director (address above). Anyone requesting a hearing should give specific reasons why a hearing would be appropriate. The holding of such a hearing is at the discretion of the Director.

Applicant: National Museum of the American Indian, Suitland, MD, PRT-088944.

The applicant requests a permit to import three Native American handicrafted items comprised, in part, of walrus (Odobenus rosmarus) from Nunavut, Canada, for the purpose of public display.

Concurrent with the publication of this notice in the Federal Register, the Division of Management Authority is forwarding copies of the above applications to the Marine Mammal Commission and the Committee of Scientific Advisors for their review.

Applicant: John J. Ottman, Jr., Missoula, MT, PRT-089050.

The applicant requests a permit to import a polar bear (Ursus maritimus) sport hunted from the Northern Beaufort Sea polar bear population in Canada for personal use.

Applicant: Edward B. Howlin, Jr., Davidsonville, MD, PRT-089129.

The applicant requests a permit to import a polar bear (Ursus maritimus) sport hunted from the Lancaster sound polar bear population in Canada for personal use.

Applicant: Randy C. Brooks, Highland, UT, PRT-089464.

The applicant requests a permit to import a polar bear (Ursus maritimus) sport hunted from the Gulf of Boothia polar bear population in Canada prior to February 18, 1997, for personal use.

Dated: June 25, 2004.
Michael S. Moore,
Senior Permit Biologist, Branch of Permits, Division of Management Authority.

[FR Doc. 04-15324 Filed 7-6-04; 8:45 am]

BILLING CODE 4310-55-P